CORPORATION FOR NATIONAL AND COMMUNITY SERVICE

Agency Information Collection Activities; Submission to the Office of Management and Budget for Review and Approval; Comment Request; AmeriCorps Member Application, Enrollment, and Exit Forms

AGENCY: Corporation for National and Community Service.

ACTION: Notice of information collection; request for comment.

SUMMARY: The Corporation for National and Community Service, operating as AmeriCorps, has submitted a public information collection request (ICR) entitled AmeriCorps Member Application, Enrollment, and Exit Forms for review and approval in accordance with the Paperwork Reduction Act.

DATES: Written comments must be submitted to the individual and office listed in the ADDRESSES section by May 16, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Elizabeth Appel, at 202-967-5070 or by email at EAppel@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on December 30, 2024 at 89 FR 106447. The comment period ended February 28, 2025; no public comments were received from that notice. AmeriCorps reached out to several individuals for their input and made minor edits to the forms in response.

Title of Collection: Enrollment, Exit, and Member Application Form.

OMB Control Number: 3054-0054.

Type of Review: Revision.

Respondents/Affected Public: Individuals.

Total Estimated Number of Annual Responses: 521,000.

Total Estimated Number of Annual Burden Hours: 390,750.

Abstract: This collection of information includes AmeriCorps' member application, enrollment, and exit forms. The application form is used by applicants interested in serving as AmeriCorps members. The enrollment form is used by AmeriCorps members to enroll in the National Service Trust to earn Eli Segal Education Awards. The exit form is used to document the completion of a member's term of service with AmeriCorps. AmeriCorps seeks to revise the exit form to add options for granting AmeriCorps permission to share the outgoing member's name and email address with other Federal partners to help the outgoing member stay engaged in service. AmeriCorps also seeks to continue using the currently approved information collection until the revised information collection is approved by OMB. The currently approved information collection is due to expire on April 30, 2025.

Carly Bruder,
Acting Chief Program Officer.

[FR Doc. 2025-06467 Filed 4-15-25; 8:45 am]

BILLING CODE 6050-28-P